DEPARTMENT OF TRANSPORTATION

Research and Special Programs Administration

Office of Hazardous Materials Safety; Notice of Applications for Modification of Exemption

AGENCY: Research and Special Programs Administration, DOT.

ACTION: List of applications for modification of exemption.

SUMMARY: In accordance with the procedures governing the application for, and the processing of, exemptions from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of exemptions (e.g. to provide for additional hazardous materials, packaging design changes, additional mode of transportation, etc.) are described in footnotes to the application number. Application numbers with the suffix “M” denote a modification request. Their applications have been separated from the new application for exemption to facilitate processing.

DATES: Comments must be received on or before December 28, 2004.

Address Comments to: Record Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington DC, or at http://dms.dot.gov.

This notice of receipt of applications for modification of exemption is published in accordance with Part 107 of the Federal hazardous materials transportation law (49 U.S.C. 5117(b); 49 CFR 1.53(b)).

Issued in Washington, DC, on December 6, 2004.
R. Ryan Posten,
Exemptions Program Officer, Office of Hazardous Materials Exemptions & Approvals.

Modification Exemptions
Application No. | Docket No. | Applicant | Regulation(s) affected | Modification of exemption | Nature of exemption thereof
7774-M |  | Pipe Recovery Systems, Inc. Houston, TX | 49 CFR 172.301(c); 173.228(a); 175.3 | 7774 | To modify the exemption to extend the length of the non-DOT specification nonrefillable seamless cylinder to 84 inches.
8826-M |  | Phoenix Air Group, Inc. Cartersville, GA | 49 CFR 172.101; 172.204(c)(3); 173.27; 175.30(a)(1); 175.320(b) | 8826 | To modify the exemption to provide relief from certain reporting requirements during operation of cargo only aircraft when transporting explosives.
9969-M |  | Kin-Tek Laboratories, Inc. La Marque, TX | 49 CFR Subparts C, E and F of Part 172 | 9969 | To modify the exemption to authorize an alternative diffusing end to the non-DOT specification inner receptacle.
11388-M |  | Nalco Company (formerly ONDEO Nalco Company) Naperville, IL. | 49 CFR 173.243 | 11388 | To modify the exemption to authorize the transportation of additional Class 3 materials in DOT Specification 57 portable tanks.
11537-M |  | ChemStation International, Inc. Dayton, OH | 49 CFR 177.834(h) | 11537 | To modify the exemption to authorize the transportation of a Class 3 and additional Class 8 material and use of an alternative monitoring method for the DOT Specification UN31H2 or UN31HA1 IBCs without removing the IBC from the vehicle on which it is transported.
11654-M |  | Celanese Ltd. (formerly Celanese Chemicals) Dallas, TX | 49 CFR 172.203(a); 173.31(c)(1); 179.13 | 11654 | To modify the exemption to authorize the transportation of an additional Class 3 material in DOT Class 105S tank cars.
11769-M |  | Los Angeles Chemical Company South Gate, CA | 49 CFR 177.834(h) | 11769 | To modify the exemption to authorize the transportation of an additional Division 5.1 material in UN Intermediate Bulk Containers (IBCs) without removing the IBC from the vehicle.
13192-M | RSPA-03-14315 | Pollution Control Industries, Inc. East Chicago, IN | 49 CFR 173.12(b) | 13192 | To modify the exemption to provide additional relief from the stowage and segregation requirements for all hazardous materials shipped in a lab pack.
13488-M | RSPA-04-17301 | FABER INDUSTRIES SPA (U.S. Agent: Kaplan Industries, Maple Shade, NJ) | 49 CFR 173.301(a)(1); 173.301(a)(2); 173.302a(a)(1) and 178.37 | 13488 | To modify the exemption to authorize the use of an alternative size Charpy V-notch specimen and relief from the flawed burst test requirements for non-DOT specification cylinders.
13577-M | RSPA-04-18710 | Scott Medical Products, a division of Scott Specialty Gases, Inc. Plumstreadville, PA | 49 CFR 173.306(a)(3)(ii); 173.306(a)(3)(v) | 13577 | To modify the exemption to authorize the use of an alternative valve neck closure for the non-DOT specification inside metal containers.
13976-M | RSPA-04-19464 | Osmose Utilities Services, Inc. Buffalo, NY | 49 CFR 172.504(a) | 13976 | To reissue the exemption originally issued on an emergency basis for the transportation of certain UN Standard combination packages which contain a Division 6.1 material in utility vehicles that are not placarded.

[FR Doc. 04-27229 Filed 12-10-04; 8:45 am]

BILLING CODE 4909-60-M